DEPARTMENT OF ENERGY

Federal Energy Regulatory Commission

Combined Notice of Filings #1

Take notice that the Commission received the following electric rate filings:

Docket Numbers: ER18-1314-011.

Applicants: PJM Interconnection, L.L.C.

Description: Compliance filing: Compliance Filing Regarding Minimum Offer Price Rule Pursuant to Jan 19 Order to be effective 10/15/2020.

Filed Date: 2/3/21.

Accession Number: 20210203-5092.

Comments Due: 5 p.m. ET 2/24/21.

Docket Numbers: ER20-539-002; ER19-828-002; ER20-1338-001; ER17-1370-005; ER16-581-006; ER16-2271-005; ER16-582-006; ER11-4535-004.

Applicants: East Fork Wind Project, LLC, Solomon Forks Wind Project, LLC, King Plains Wind Project, LLC, ENGIE Energy Marketing NA, Inc., ENGIE Portfolio Management, LLC, ENGIE Resources LLC, ENGIE Retail, LLC, Plymouth Rock Energy, LLC.

Description: Notice of Change in Status of East Fork Wind Project, LLC, et al.

Filed Date: 2/3/21.

Accession Number: 20210203-5107.

Comments Due: 5 p.m. ET 2/24/21.

Docket Numbers: ER20-860-003.

Applicants: Green River Wind Farm Phase 1, LLC.

Description: Report Filing: Reactive Refund Report to be effective N/A.

Filed Date: 2/3/21.

Accession Number: 20210203-5038.

Comments Due: 5 p.m. ET 2/24/21.

Docket Numbers: ER20-1890-005.

Applicants: California Independent System Operator Corporation.

Description: Compliance filing: 2020-12-03 Intertie Deviation Settlement—Compliance Filing to be effective 2/1/2021.

Filed Date: 2/3/21.

Accession Number: 20210203-5048.

Comments Due: 5 p.m. ET 2/24/21.

Docket Numbers: ER21-998-001.

Applicants: Midway-Sunset Cogeneration Company.

Description: Tariff Amendment: MSCC Errata Filing to be effective 2/1/2021.

Filed Date: 2/3/21.

Accession Number: 20210203-5123.

Comments Due: 5 p.m. ET 2/24/21.

Docket Numbers: ER21-1021-000.

Applicants: AEP Texas Inc.

Description: § 205(d) Rate Filing: AEPTX-LCRA TSC Dimmit Facilities Development Agreement to be effective 1/21/2021.

Filed Date: 2/2/21.

Accession Number: 20210202-5118.

Comments Due: 5 p.m. ET 2/23/21.

Docket Numbers: ER21-1022-000.

Applicants: PJM Interconnection, L.L.C.

Description: Tariff Cancellation: Notice of Cancellation of ISA, SA No. 3799; Queue No. Y3-100 to be effective 2/3/2021.

Filed Date: 2/2/21.

Accession Number: 20210202-5133.

Comments Due: 5 p.m. ET 2/23/21.

Docket Numbers: ER21-1024-000.

Applicants: AEP Texas Inc.

Description: § 205(d) Rate Filing: AEPTX-El Sauz Ranch Wind Interconnection Agreement to be effective 1/27/2021.

Filed Date: 2/3/21.

Accession Number: 20210203-5051.

Comments Due: 5 p.m. ET 2/24/21.

Docket Numbers: ER21-1025-000.

Applicants: Idaho Power Company.

Description: § 205(d) Rate Filing: SA 414—Network Integration Transmission Service Agreement—IPC/PacifiCorp to be effective 4/1/2021.

Filed Date: 2/3/21.

Accession Number: 20210203-5076.

Comments Due: 5 p.m. ET 2/24/21.

Docket Numbers: ER21-1026-000.

Applicants: Idaho Power Company.

Description: Tariff Cancellation: Cancellation of SA 301 to be effective 4/1/2021.

Filed Date: 2/3/21.

Accession Number: 20210203-5077.

Comments Due: 5 p.m. ET 2/24/21.

Docket Numbers: ER21-1027-000.

Applicants: San Diego Gas & Electric Company.

Description: § 205(d) Rate Filing: WDAT SGIA for Kearny 251 to be effective 2/4/2021.

Filed Date: 2/3/21.

Accession Number: 20210203-5090.

Comments Due: 5 p.m. ET 2/24/21.

Docket Numbers: ER21-1028-000.

Applicants: San Diego Gas & Electric Company.

Description: § 205(d) Rate Filing: WDAT SGIA for Kearny 252 to be effective 2/4/2021.

Filed Date: 2/3/21.

Accession Number: 20210203-5091.

Comments Due: 5 p.m. ET 2/24/21.

Docket Numbers: ER21-1029-000.

Applicants: Direct Energy Business, LLC.

Description: § 205(d) Rate Filing: Market-Based Rate Tariff Revisions to be effective 2/4/2021.

Filed Date: 2/3/21.

Accession Number: 20210203-5094.

Comments Due: 5 p.m. ET 2/24/21.

Docket Numbers: ER21-1030-000.

Applicants: Direct Energy Business Marketing, LLC.

Description: § 205(d) Rate Filing: Market-Based Rate Tariff Revisions to be effective 2/4/2021.

Filed Date: 2/3/21.

Accession Number: 20210203-5095.

Comments Due: 5 p.m. ET 2/24/21.

Docket Numbers: ER21-1031-000.

Applicants: Direct Energy Marketing Inc.

Description: § 205(d) Rate Filing: Market-Based Rate Tariff Revisions to be effective 2/4/2021.

Filed Date: 2/3/21.

Accession Number: 20210203-5096.

Comments Due: 5 p.m. ET 2/24/21.

Docket Numbers: ER21-1032-000.

Applicants: PJM Interconnection, L.L.C.

Description: Tariff Cancellation: Notice of Cancellation of WMPA SA No. 3355; Queue No. W3-044 to be effective 1/4/2021.

Filed Date: 2/3/21.

Accession Number: 20210203-5097.

Comments Due: 5 p.m. ET 2/24/21.

Docket Numbers: ER21-1033-000.

Applicants: Direct Energy Services, LLC.

Description: § 205(d) Rate Filing: Market-Based Rate Tariff Revisions to be effective 2/4/2021.

Filed Date: 2/3/21.

Accession Number: 20210203-5099.

Comments Due: 5 p.m. ET 2/24/21.

Docket Numbers: ER21-1034-000.

Applicants: Gateway Energy Services Corporation.

Description: § 205(d) Rate Filing: Market-Based Rate Tariff Revisions to be effective 2/4/2021.

Filed Date: 2/3/21.

Accession Number: 20210203-5100.

Comments Due: 5 p.m. ET 2/24/21.

Docket Numbers: ER21-1035-000.

Applicants: Copper Mountain Solar 2, LLC.

Description: § 205(d) Rate Filing: Amended JUA Filing to be effective 2/4/2021.

Filed Date: 2/3/21.

Accession Number: 20210203-5103.

Comments Due: 5 p.m. ET 2/24/21.

Docket Numbers: ER21-1036-000.

Applicants: Griddy Energy LLC.

Description: Baseline eTariff Filing: Griddy Energy LLC MBR Tariff to be effective 4/5/2021.

Filed Date: 2/3/21.

Accession Number: 20210203-5104.

Comments Due: 5 p.m. ET 2/24/21.

Docket Numbers: ER21-1037-000.

Applicants: PJM Interconnection, L.L.C.

Description: Tariff Cancellation: Notice of Cancellation of ISA, Service Agreement No. 2828 to be effective 2/18/2021.

Filed Date: 2/3/21.

Accession Number: 20210203-5117.

Comments Due: 5 p.m. ET 2/24/21.

Docket Numbers: ER21-1038-000.

Applicants: Copper Mountain Solar 2, LLC.

Description: § 205(d) Rate Filing: Amended JUA Filing to be effective 2/4/2021.

Filed Date: 2/3/21.

Accession Number: 20210203-5120.

Comments Due: 5 p.m. ET 2/24/21.

Docket Numbers: ER21-1039-000.

Applicants: Copper Mountain Solar 4, LLC.

Description: § 205(d) Rate Filing: Amended JUA Certificate of Concurrence to be effective 2/4/2021.

Filed Date: 2/3/21.

Accession Number: 20210203-5135.

Comments Due: 5 p.m. ET 2/24/21.

Docket Numbers: ER21-1040-000.

Applicants: Tri-State Generation and Transmission Association, Inc.

Description: § 205(d) Rate Filing: Amendment to Service Agreement No. 827 to be effective 2/3/2021.

Filed Date: 2/3/21.

Accession Number: 20210203-5144.

Comments Due: 5 p.m. ET 2/24/21.

Docket Numbers: ER21-1041-000.

Applicants: Copper Mountain Solar 5, LLC.

Description: § 205(d) Rate Filing: Amended JUA Filing Certificate of Concurrence to be effective 2/4/2021.

Filed Date: 2/3/21.

Accession Number: 20210203-5149.

Comments Due: 5 p.m. ET 2/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2021.
Nathaniel J. Davis, Sr.,
Deputy Secretary.

[FR Doc. 2021-02632 Filed 2-8-21; 8:45 am]

BILLING CODE 6717-01-P